DEPARTMENT OF COMMERCE

United States Patent and Trademark Office

Proposed Revision of a Currently Approved Information Collection; Comment Request; Post Registration (Trademark Processing)

AGENCY: United States Patent and Trademark Office, Commerce.

ACTION: Notice.

SUMMARY: The United States Patent and Trademark Office (USPTO), as part of its continuing effort to reduce paperwork and respondent burden, invites the general public and other Federal agencies to comment on proposed and/or continuing information collections, as required by the Paperwork Reduction Act of 1995.

DATES: Written comments must be submitted on or before May 19, 2015.

ADDRESSES: Written comments may be submitted by any of the following methods:

• Email: InformationCollection@uspto.gov. Include “0651-0055 Post Registration (Trademark Processing)” in the subject line of the message.

• Mail: Marcie Lovett, Records Management Division Director, Office of the Chief Information Officer, United States Patent and Trademark Office, P.O. Box 1450, Alexandria, VA 22313-1450.

• Federal Rulemaking Portal: http://www.regulations.gov.

FOR FURTHER INFORMATION CONTACT: Requests for additional information should be directed to Catherine Cain, Attorney Advisor, Office of the Commissioner for Trademarks, United States Patent and Trademark Office, P.O. Box 1451, Alexandria, VA 22313-1451, by telephone at 571-272-8946, or by email to Catherine.Cain@uspto.gov with “Paperwork” in the subject line. Additional information about this collection is also available at http://www.reginfo.gov under “Information Collection Review.”

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses that use or intend to use such marks in commerce may file an application to register their marks with the USPTO.

Such individuals and businesses may also submit various communications to the USPTO, including requests to amend their registrations to delete goods or services that are no longer being used by the registrant. Registered marks remain on the register for ten years and can be renewed, but will be cancelled unless the owner files with the USPTO a declaration attesting to the continued use (or excusable non-use) of the mark in commerce, and a renewal application, within specific deadlines. Applicants may also request to amend or divide a registration, respond to a post-registration Office action, and surrender a registration.

The rules implementing the Act are set forth in 37 CFR part 2. These rules mandate that each register entry include the mark, the goods and/or services in connection with which the mark is used, ownership information, dates of use, and certain other information. The USPTO also provides similar information concerning pending applications. The register and pending application information may be accessed by an individual or by businesses to determine the availability of a mark. By accessing the USPTO's information, parties may reduce the possibility of initiating use of a mark previously adopted by another. Thus, the Federal trademark registration process may reduce unnecessary litigation and its accompanying costs and burdens.

II. Method of Collection

Electronically, if applicants submit the information using the forms available through the Trademark Electronic Application System (TEAS). By mail or hand delivery, if applicants choose to submit the information in paper form.

III. Data

OMB Number: 0651-0055.

Type of Review: Revision of a currently approved collection.

Affected Public: Individuals or households; business or other for-profit organizations; not-for-profit organizations.

Estimated Number of Respondents: 185,047 responses per year. Of this total, the USPTO expects that 175,846 responses will be submitted through TEAS and 9,201 will be submitted on paper.

Estimated Time per Response: The USPTO estimates that it will take approximately 5 minutes (0.08 hours) to 35 minutes (0.58 hours) to complete this information. This includes the time to gather the necessary information, create the documents, and submit the completed request to the USPTO.

The time per response, estimated annual responses, and estimated annual hour burden associated with each instrument in this information collection is shown in the table below.

Estimated Total Annual Hour Burden: 43,095.72 hours.

Estimated Total Annual Cost Burden (Hourly): $16,764,233.78. The USPTO expects that attorneys will complete the instruments associated with this information collection. The professional hourly rate for attorneys in private firms is $389. Using this hourly rate, the USPTO estimates $16,764,233.78 per year for the total hourly costs associated with respondents.

IC No. | Item | Estimated time for response | Estimated annual responses | Estimated annual burden hours | Rate ($/hr) | Total cost
|  | (a) | (b) | (a) × (b) = (c) | (d) | (c) × (d) = (e)
1 | Declaration of Use of Mark in Commerce Under Section 8 (TEAS) | 12 | 16,456 | 3,291.20 | $389.00 | $1,280,276.80
1 | Declaration of Use of Mark in Commerce Under Section 8 (paper) | 20 | 336 | 112.00 | 389.00 | 43,568.00
2 | Combined Declaration of Use of Mark in Commerce and Application for Renewal of Registration of a Mark Under Section 8 & 9 (TEAS) | 13 | 75,902 | 16,445.43 | 389.00 | 6,397,273.57
2 | Combined Declaration of Use of Mark in Commerce and Application for Renewal of Registration of a Mark Under Section 8 & 9 (paper) | 20 | 1,549 | 516.33 | 389.00 | 200,853.67
3 | Declaration of Incontestability of a Mark Under Section 15 (TEAS) | 5 | 823 | 68.58 | 389.00 | 26,678.92
3 | Declaration of Incontestability of a Mark Under Section 15 (paper) | 10 | 17 | 2.83 | 389.00 | 1,102.17
4 | Combined Declaration of Use and Incontestability Under Section 8 and 15 (TEAS) | 12 | 65,825 | 13,165.00 | 389.00 | 5,121,185.00
4 | Combined Declaration of Use and Incontestability Under Section 8 and 15 (paper) | 20 | 1,343 | 447.67 | 389.00 | 174,142.33
5 | Surrender of registration for cancellation (TEAS Global) | 5 | 347 | 28.92 | 389.00 | 11,248.58
5 | Surrender of registration for cancellation (paper) | 15 | 847 | 211.75 | 389.00 | 82,370.75
6 | Section 7 Request (TEAS) | 20 | 4,807 | 1,602.33 | 389.00 | 623,307.67
6 | Section 7 Request (paper) | 30 | 5,003 | 2,501.50 | 389.00 | 973,083.50
7 | Response to Office Action for Post-Registration Matters (TEAS Global) | 25 | 9,000 | 3,750.00 | 389.00 | 1,458,750.00
7 | Response to Office Action for Post-Registration Matters (paper) | 35 | 50 | 29.17 | 389.00 | 11,345.83
8 | Request to Divide Registration (TEAS Global) | 20 | 2,685 | 895.00 | 389.00 | 348,155.00
8 | Request to Divide Registration (paper) | 30 | 55 | 27.50 | 389.00 | 10,697.50
9 | Section 12(c) Affidavit (TEAS Global) | 10 | 1 | 0.17 | 389.00 | 64.83
9 | Section 12(c) Affidavit (paper) | 20 | 1 | 0.33 | 389.00 | 129.67
Totals |  |  | 185,047 | 43,095.72 |  | 16,764,233.78

Estimated Total Annual Cost Burden (Non-Hourly): $54,392,518.33. This collection has no capital startup, maintenance, or operating fees. This collection does have postage costs and filing fees.

Postage Costs

Applicants incur postage costs when submitting non-electronic information to the USPTO by mail through the United States Postal Service. The USPTO estimates that the vast majority—approximately 98%—of the paper forms are submitted to the USPTO via first-class mail, while the rest are submitted by hand delivery. Out of 9,201 paper forms, the USPTO estimates that 9,017 forms will be mailed, at a rate of 49 cents per ounce. Therefore, the USPTO estimates that the postage costs for the paper submissions in this collection will be $4,418.33.

Filing Fees

Filing fees are charged per class of goods or services; therefore, the total filing fees can vary depending on the number of classes. The total filing fees of $54,388,100 shown here are based on the minimum fee of one class per application.

IC No. | Item | Responses (yr) | Filing fees | Total cost (yr)
|  | (a) | (b) | (a × b)
1 | Declaration of Use of Mark in Commerce Under Section 8 (TEAS) | 16,456 | $100.00 | $1,645,600.00
1 | Declaration of Use of Mark in Commerce Under Section 8 (Paper) | 336 | 100.00 | 33,600.00
2 | Combined Declaration of Use of Mark in Commerce and Application for Renewal of Registration of a Mark Under Section 8 & 9 (TEAS) | 75,902 | 400.00 | 30,360,800.00
2 | Combined Declaration of Use of Mark in Commerce and Application for Renewal of Registration of a Mark Under Section 8 & 9 (Paper) | 1,549 | 500.00 | 774,500.00
3 | Declaration of Incontestability of a Mark Under Section 15 (TEAS) | 823 | 200.00 | 164,600.00
3 | Declaration of Incontestability of a Mark Under Section 15 (paper) | 17 | 200.00 | 3,400.00
4 | Combined Declaration of Use and Incontestability Under Section 8 and 15 (TEAS) | 65,825 | 300.00 | 19,747,500.00
4 | Combined Declaration of Use and Incontestability Under Section 8 and 15 (Paper) | 1,343 | 300.00 | 402,900.00
6 | Section 7 Request (TEAS) | 4,807 | 100.00 | 480,700.00
6 | Section 7 Request (Paper) | 5,003 | 100.00 | 500,300.00
8 | Request to Divide Registration (TEAS Global) | 2,685 | 100.00 | 268,500.00
8 | Request to Divide Registration (Paper) | 55 | 100.00 | 5,500.00
9 | Section 12(c) Affidavit (TEAS Global) | 1 | 100.00 | 100.00
9 | Section 12(c) Affidavit (Paper) | 1 | 100.00 | 100.00
Totals |  | 174,801 |  | 54,388,100.00

Therefore, the USPTO estimates that the total annual (non-hour) cost burden for this collection, in the form of postage costs ($4,418.33) and filing fees ($54,388,100), is $54,392,518.33 per year.

IV. Request for Comments

Comments are invited on: (a) Whether the proposed collection of information is necessary for the proper performance of the functions of the agency, including whether the information shall have practical utility; (b) the accuracy of the agency's estimate of the burden (including hours and cost) of the proposed collection of information, including the validity of the methodology and assumptions used; (c) ways to enhance the quality, utility, and clarity of the information to be collected; and (d) ways to minimize the burden of the collection of information on respondents, including through the use of automated collection techniques or other forms of information technology, e.g., permitting electronic submission of responses.

Comments submitted in response to this notice will be summarized or included in the request for OMB approval of this information collection; they will also become a matter of public record.

Dated: March 13, 2015.
Marcie Lovett,
Records Management Division Director, USPTO, Office of the Chief Information Officer.

[FR Doc. 2015-06446 Filed 3-19-15; 8:45 am]

BILLING CODE 3510-16-P